FEDERAL MARITIME COMMISSION

Notice of Agreements Filed

The Commission hereby gives notice of filing of the following agreements under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of these agreements are available through the Commission's website (www.fmc.gov) or by contacting the Office of Agreements at (202)-523-5793 or tradeanalysis@fmc.gov.

Agreement No.: 201444.

Agreement Name: ONE to HMM AL5 Space Charter Agreement.

Parties: HMM Co. Ltd.; Ocean Network Express Pte. Ltd.

Filing Party: Joshua Stein, Cozen O'Connor.

Synopsis: The Agreement authorizes ONE to charter space to HMM in the trade between ports on the U.S. East Coast/Gulf and the U.S. West Coast on the one hand and ports in the United Kingdom, Germany, France, The Netherlands, Belgium, Colombia, and Dominican Republic on the other hand.

Proposed Effective Date: 01/08/2025.

Location: https://www2.fmc.gov/FMC.Agreements.Web/Public/AgreementHistory/88590.

Agreement No.: 201445.

Agreement Name: ONE to YML AL5 Slot Charter Agreement.

Parties: Ocean Network Express Pte. Ltd.; Yang Ming Joint Service Agreement (“YML”).

Filing Party: Joshua Stein, Cozen O'Connor.

Synopsis: The Agreement authorizes ONE to charter space to YML in the trade between ports on the U.S. East Coast/Gulf and the U.S. West Coast on the one hand and ports in the United Kingdom, Germany, France, The Netherlands, Belgium, Colombia, and Dominican Republic on the other hand.

Proposed Effective Date: 01/08/2025.

Location: https://www2.fmc.gov/FMC.Agreements.Web/Public/AgreementHistory/88591.

Dated: January 10, 2025.
Jennifer Everling,
Assistant Secretary.

[FR Doc. 2025-00777 Filed 1-14-25; 8:45 am]

BILLING CODE 6730-02-P